DEPARTMENT OF ENERGY

Federal Energy Regulatory Commission

[Docket No. EL07-95-000]

Black Oak Energy, LLC, Complainant v. New York Independent System Operator, Inc., Respondent; Notice of Complaint

September 10, 2007.

Take notice that on September 7, 2007, Black Oak Energy, LLC (Black Oak), filed a formal complaint against New York Independent System Operator, Inc. (NYISO) pursuant to sections 206 and 306 of the Federal Power Act, 16 U.S.C. 824e and 825e (2000), and Rule 206 of the Commission's Rules of Practice and Procedure, 18 CFR 385.206 (2007), alleging that the NYISO failed to properly administer its energy markets on at least three occasions in 2005, which resulted in substantial financial losses to Black Oak.

Black Oak certifies that copies of the complainant were served on the contacts for NYISO as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 27, 2007.

Kimberly D. Bose,
Secretary.

[FR Doc. E7-18213 Filed 9-14-07; 8:45 am]

BILLING CODE 6717-01-P